FEDERAL COMMUNICATIONS COMMISSION

[GN Docket No. 18-122; DA 20-1251; FRS 17200]

Wireless Telecommunications Bureau Announces C-Band Relocation Payment Clearinghouse

AGENCY: Federal Communications Commission.

ACTION: Notice.

SUMMARY: In this document, the Wireless Telecommunications Bureau (Bureau) announces that CohnReznick LLP (CohnReznick) and subcontractors Squire Patton Boggs (US) LLP (Squire Patton Boggs), and Intellicom Technologies, Inc. (Intellicom) satisfy the selection criteria established by the Commission in the 3.7 GHz Band Report and Order and will serve as the Relocation Payment Clearinghouse for the 3.7-4.2 GHz transition process.

DATES: The Order was released on October 22, 2020.

ADDRESSES: Federal Communications Commission, 445 12th Street SW, Washington, DC 20554.

FOR FURTHER INFORMATION CONTACT: Susan Mort of the Wireless Telecommunications Bureau at (202) 418-2429 or Susan.Mort@fcc.gov.

SUPPLEMENTARY INFORMATION: This is a summary of the Order (DA 20-1251) released on October 22, 2020. The complete text of the Order is available for viewing via the Commission's ECFS website by entering the docket number, GN Docket No. 18-122. The complete text of the Order is also available for public inspection and copying from 8:00 a.m. to 4:30 p.m. Eastern Time (ET) Monday through Thursday or from 8:00 a.m. to 11:30 a.m. ET on Fridays in the FCC Reference Information Center, 445 12th Street SW, Room CY-B402, Washington, DC 20554, telephone 202-488-5300, fax 202-488-5563, or you may contact BCPI at its website: http://www.BCPIWEB.com. When ordering documents from BCPI, please provide the appropriate FCC document number, for example, DA 20-1251.

Synopsis

On March 3, 2020, the Commission released the 3.7 GHz Band Report and Order (FCC 20-22), which adopted new rules to make available 280 megahertz of mid-band spectrum for flexible use, plus a 20 megahertz guard band, throughout the contiguous United States by transitioning existing services out of the lower portion and into the upper 200 megahertz of the 3.7-4.2 GHz band (C-band). In the 3.7 GHz Report and Order, the Commission found that selecting a single, independent Clearinghouse to oversee the cost-related aspects of the transition in a fair and transparent manner would serve the public interest. The Commission specified the duties of the Clearinghouse in detail in the 3.7 GHz Report and Order, including: (1) Collecting from all incumbent space station operators and all incumbent earth station operators a showing of their relocation costs for the transition, as well as a demonstration of the reasonableness of those costs; (2) apportioning costs among overlay licensees and distributing payments to incumbent space station operators, incumbent earth station operators, and appropriate surrogates of those parties that incur compensable costs; (3) resolving disputes regarding cost estimates or payments that may arise during the transition; and (4) providing the detailed information and reports to the Commission and the Bureau to facilitate oversight of the transition process.

To select the Clearinghouse, the Commission appointed a search committee composed of nine entities that the Commission found, collectively, reasonably represented the interests of stakeholders in the transition. The Commission required the search committee to submit detailed selection criteria for the Clearinghouse by June 1, 2020 and to convene no later than June 22, 2020. The Commission directed the search committee to select, no later than July 31, 2020, an entity that demonstrated its ability to perform the duties of the Clearinghouse, including: (1) Engaging in strategic planning and adopting goals and metrics to evaluate its performance; (2) adopting internal controls for its operations; (3) using enterprise risk management practices; and (4) using best practices to protect against improper payments and to prevent fraud, waste, and abuse in its handling of funds. The search committee was also required to ensure that the Clearinghouse would adopt robust privacy and data security best practices in its operations.

The Commission required the search committee, in notifying the Commission of its selection for the Clearinghouse, to: (a) Fully disclose any actual or potential organizational or personal conflicts of interest or any appearance of such conflicts of interest of the Clearinghouse or its officers, directors, employees, and/or contractors; and (b) detail the salary and benefits associated with each position.

On July 31, 2020, the search committee announced that it had unanimously selected CohnReznick to serve as the Clearinghouse. The search committee also included a document detailing CohnReznick's qualifications, expertise, and ability to fulfill the duties of the Clearinghouse. As directed by the Commission in the 3.7 GHz Report and Order, the Bureau issued a public notice seeking comment on whether CohnReznick satisfies the criteria established by the Commission in the 3.7 GHz Report and Order. The Commission received comments from Boeing, CohnReznick, and Vertix.

In the 3.7 GHz Report and Order, the Commission assigned responsibility for finding, evaluating, and selecting a qualified Clearinghouse to the search committee. The Bureau's role in the selection process is limited to determining whether the selected entity has or has not satisfied the specific criteria set forth in the 3.7 GHz Report and Order. The search committee fulfilled its responsibility when it unanimously selected CohnReznick to serve as the Clearinghouse and provided the Bureau with detailed information regarding CohnReznick's qualifications and compliance with the selection criteria. Notably, the Search Committee Letter and attachments clearly demonstrate that CohnReznick: (1) Is a neutral and independent entity with no conflicts of interest; (2) has the requisite financial, accounting, auditing and industry expertise necessary to perform the functions of the Clearinghouse; (3) will adopt and follow all relevant industry best practices to facilitate the transition; and (4) will incorporate robust privacy and data security best practices into its operations. After review of the record, the Bureau finds that CohnReznick has satisfied the Clearinghouse selection criteria described in section 27.1414 of the Commission's rules and the 3.7 GHz Report and Order.

Federal Communications Commission.
Amy Brett,
Associate Division Chief, Competition and Infrastructure Policy Division, Wireless Telecommunications Bureau.

[FR Doc. 2020-24189 Filed 10-28-20; 4:15 pm]

BILLING CODE 6712-01-P